DEPARTMENT OF ENERGY

Federal Energy Regulatory Commission

[Project No. 14513-002]

Idaho Irrigation District, New Sweden Irrigation District; Notice of Application Tendered for Filing With the Commission and Establishing Procedural Schedule for Licensing and Deadline for Submission of Final Amendments

Take notice that the following hydroelectric application has been filed with the Commission and is available for public inspection.

a. Type of Application: Original Major License.

b. Project No.: 14513-002.

c. Date Filed: December 18, 2019.

d. Applicant: Idaho Irrigation District, New Sweden Irrigation District (the Districts).

e. Name of Project: County Line Road Hydroelectric Project.

f. Location: The proposed project would be located on the Snake River in Jefferson and Bonneville Counties, Idaho. The project would not affect federal lands.

g. Filed Pursuant to: Federal Power Act, 16 U.S.C. 791 (a)-825(r).

h. Applicant Contact: Nicholas Josten, 2742 Saint Charles Ave., Idaho Falls, Idaho 83404; (208) 528-6152.

i. FERC Contact: Matt Cutlip, (503) 552-2762 or matt.cutlip@ferc.gov.

j. This application is not ready for environmental analysis at this time.

k. Project Description: The proposed project would utilize water diverted from the Snake River at an existing diversion dam located 10 miles upstream of Idaho Falls. Currently the diversion dam diverts irrigation water for agricultural purposes into the existing Idaho Canal on the east side of the river and Great Western Canal on the west side of the river. Under the proposed project, the Districts would enlarge the canals by raising the banks of each by an additional 1 to 3 feet to increase their capacity and then divert up to 1,000 cubic feet per second (cfs) of additional flow into each canal for power generation. On the east side of the Snake River, flows for power generation would be diverted into the Idaho Canal and conveyed about 3.1 miles to a new East Side Powerhouse and then discharged back to the Snake River. On the west side of the Snake River, flows for power generation would be diverted into the Great Western Canal and conveyed about 3.5 miles to a new West Side Powerhouse and then discharged back to the Snake River. The Districts propose to maintain a 1,000-cfs minimum flow in the 3.5-mile-long segment of the Snake River bypassed by the project whenever the project is operating. The total capacity of both powerhouses would be 2.5 megawatts (MW), with a 1.2-MW capacity for the single Kaplan turbine in the East Side Powerhouse and a 1.3-MW capacity for the single Kaplan turbine in the West Side Powerhouse. The average annual generation is expected to be 18.3 gigawatt-hours. The project would also include two new 12.5-kilovolt transmission lines, extending 2,500 feet and 400 feet from the East Side and West Side Powerhouses, respectively, to the interconnection points with the existing electrical distribution system.

l. Locations of the Application: A copy of the application is available for review at the Commission in the Public Reference Room or may be viewed on the Commission's website at http://www.ferc.gov using the eLibrary link. Enter the docket number excluding the last three digits in the docket number field to access the document. For assistance, please contact FERC Online Support at FERCOnlineSupport@ferc.gov, (866) 208-3676 (toll free), or (202) 502-8659 (TTY).

m. You may also register online at http://www.ferc.gov/docs-filing/esubscription.asp to be notified via email of new filings and issuances related to this or other pending projects. For assistance, contact FERC Online Support.

n. Procedural Schedule: The application will be processed according to the following preliminary Hydro Licensing Schedule. Revisions to the schedule may be made as appropriate.

Milestone | Target date
Notice of Acceptance/Notice of Ready for Environmental Analysis | February 2020.
Filing of recommendations, preliminary terms and conditions, and fishway prescriptions | April 2020.
Commission issues Draft Environmental Assessment (EA) | October 2020.
Comments on Draft EA | November 2020.
Modified terms and conditions | January 2021.
Commission issues Final EA | April 2021.

o. Final amendments to the application must be filed with the Commission no later than 30 days from the issuance date of the notice of ready for environmental analysis.

Dated: December 19, 2019.
Nathaniel J. Davis, Sr.,
Deputy Secretary.

[FR Doc. 2019-27921 Filed 12-26-19; 8:45 am]

BILLING CODE 6717-01-P